DEPARTMENT OF COMMERCE

International Trade Administration

Initiation of Antidumping and Countervailing Duty Administrative Reviews and Deferral of Administrative Review

AGENCY: Import Administration, International Trade Administration, Department of Commerce.

SUMMARY: The Department of Commerce (“the Department”) has received requests to conduct administrative reviews of various antidumping and countervailing duty orders and findings with June anniversary dates. In accordance with the Department's regulations, we are initiating those administrative reviews. The Department also received a request to defer the initiation of an administrative review for one antidumping duty order.

EFFECTIVE DATE: July 29, 2009.

FOR FURTHER INFORMATION CONTACT: Sheila E. Forbes, Office of AD/CVD Operations, Customs Unit, Import Administration, International Trade Administration, U.S. Department of Commerce, 14th Street and Constitution Avenue, NW, Washington, DC 20230, telephone: (202) 482-4697.

SUPPLEMENTARY INFORMATION:

Background

The Department has received timely requests, in accordance with 19 CFR 351.213(b), for administrative reviews of various antidumping and countervailing duty orders and findings with June anniversary dates. Please note that in the initiation notice that published on June 24, 2009 (74 FR 30052) the Department listed incorrect case numbers for the antidumping duty orders on Ball Bearings and Parts Thereof from France, Germany, Italy, Japan and the United Kingdom. The correct case numbers for these cases are as follows: France (A-427-801), Germany (A-428-801), Italy (A-475-801), Japan (A-588-804), and the United Kingdom (A-412-801).

Notice of No Sales

Under 19 CFR 351.213(d)(3), the Department may rescind a review where there are no exports, sales, or entries of subject merchandise during the respective period of review (“POR”) listed below. If a producer or exporter named in this initiation notice had no exports, sales, or entries during the POR, it should notify the Department within 30 days of publication of this notice in the Federal Register. The Department will consider rescinding the review only if the producer or exporter, as appropriate, submits a properly filed and timely statement certifying that it had no exports, sales, or entries of subject merchandise during the POR. All submissions must be made in accordance with 19 CFR 351.303 and are subject to verification in accordance with section 782(i) of the Tariff Act of 1930, as amended (“the Act”). Six copies of the submission should be submitted to the Assistant Secretary for Import Administration, International Trade Administration, Room 1870, U.S. Department of Commerce, 14th Street and Constitution Avenue, NW, Washington, DC 20230. Further, in accordance with 19 CFR 351.303(f)(1)(i), a copy of each request must be served on every party on the Department's service list.

Respondent Selection

In the event the Department limits the number of respondents for individual examination for administrative reviews, the Department intends to select respondents based on U.S. Customs and Border Protection (“CBP”) data for U.S. imports during the POR.

We intend to release the CBP data under Administrative Protective Order (“APO”) to all parties having an APO within five days of publication of this initiation notice and to make our decision regarding respondent selection within 20 days of publication of this Federal Register notice. The Department invites comments regarding the CBP data and respondent selection within 10 calendar days of publication of this Federal Register notice.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2,1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's website at http://www.trade.gov/ia on the date of publication of this Federal Register. In responding to the certification, please follow the “Instructions for Filing the Certification” in the Separate Rate Certification. Separate Rate Certifications are due to the Department no later than 30 calendar days of publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Application will be available on the Department's website at http://ia.ita.doc.gov/nme/nme-sep-rate.html on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceedings (e.g., an ongoing administrative review, new shipper review, etc.) and entities that lost their separate rate in the most recently complete segment of the proceeding in which they participated.

² Only changes to the official company name, rather than trade names, need to be addressed via a Separate Rate Application. Information regarding new trade names may be submitted via a Separate Rate Application.

For exporters and producers who submit a separate-rate status application or certification and subsequently are selected as mandatory respondents, these exporters and producers will no longer be eligible for separate-rate status unless they respond to all parts of the questionnaire as mandatory respondents.

Initiation of Reviews

In accordance with section 19 CFR 351.221(c)(1)(i), we are initiating administrative reviews of the following antidumping and countervailing duty orders and findings. We intend to issue the final results of these reviews not later than June 30, 2010. Also in accordance with 19 CFR 351.213(c), we deferring for one year the initation of the May 1, 2008 through April 30, 2009 administrative review of the antidumping duty order on Ball Bearings and Parts Thereof from Germany with respect to one exporter.

Antidumping Duty Proceedings | Period to be Reviewed
JAPAN: Ball Bearings and Parts Thereof
A-588-804 | 5/1/08 - 4/30/09
International Aero Engines AG (IAE)³
JAPAN: Certain Large Diameter Carbon and Alloy Seamless, Standard, Line, and Pressure Pipe
A-588-850 | 6/1/08 - 5/31/09
JFE Steel Corporation
Nippon Steel Corporation
NKK Tubes
Sumitomo Metal Industries, Ltd.
JAPAN: Hot-Rolled Carbon Steel Flat Products
A-588-846 | 6/1/08 - 5/31/09
Nippon Steel Corporation
SPAIN: Chlorinated Isocyanurates
A-469-814 | 6/1/08 - 5/31/09
Aragonesas Industrias y Energia S.A.
SOUTH KOREA: Polyethylene Terephthalate Film, Sheet, and Strip
A-580-807 | 6/1/08 - 5/31/09
Kolon Industries, Inc.
TAIWAN: Certain Stainless Steel Butt-Weld Pipe Fittings
A-583-816 | 6/1/08 - 5/31/09
Ta Chen Stainless Pipe Co., Ltd.
THE PEOPLE'S REPUBLIC OF CHINA: Certain Polyester Staple Fiber⁴
A-570-905 | 6/1/08 - 5/31/09
Far Eastern Industries, Ltd. (Shanghai) and Far Eastern Polychem Industries
Ningbo Dafa Chemical Fiber Co., Ltd.
Cixi Sansheng Chemical Fiber Co., Ltd.
Cixi Santai Chemical Fiber Co., Ltd.
Cixi Waysun Chemical Fiber Co., Ltd.
Hangzhou Best Chemical Fiber Co., Ltd.
Hangzhou Hanbang Chemical Fibre Co., Ltd.
Hangzhou Huachuang Co., Ltd.
Hangzhou Sanxin Paper Co., Ltd.
Hangzhou Taifu Textile Fiber Co., Ltd.
Jiaxing Fuda Chemical Fibre Factory
Nantong Luolai Chemical Fiber Co., Ltd.
Nan Yang Textiles Co., Ltd.
Suzhou PolyFiber Co., Ltd.
Xiamen Xianglu Chemical Fiber Co.
Zhaoqing Tifo New Fiber Co., Ltd.
Zhejiang Anshun Pettechs Fibre Co., Ltd.
Zhejiang Waysun Chemical Fiber Co., Ltd.
Dragon Max Trading Development
Xiake Color Spinning Co., Ltd.
Jiangyin Hailun Chemical Fiber Co., Ltd.
Hyosung Singapore PTE Ltd.
Jiangyin Changlong Chemical Fiber Co., Ltd.
Ma Ha Company, Ltd.
Jiangyin Huahong Chemical Fiber Co., Ltd.
Jiangyin Mighty Chemical Fiber Co., Ltd.
Huvis Sichuan
THE PEOPLE'S REPUBLIC OF CHINA: Chlorinated Isocyanurates⁵
A-570-898 | 6/1/08 - 5/31/09
Hebei Jiheng Chemical Company, Ltd.
Zhucheng Taisheng Chemical Co., Ltd.
THE PEOPLE'S REPUBLIC OF CHINA: Folding Metal Tables and Chairs⁶
A-570-868 | 6/1/08 - 5/31/09
New-Tec Integration Co., Ltd.
New-Tec Integration (Xiamen) Co., Ltd.
Feili Furniture Development Ltd. Quanzhou City⁷ | 6/1/07 - 5/31/08
Feili Furniture Development Co., Ltd. | 6/1/08 - 5/31/09
Feili Group (Fujian) Co., Ltd.
Feili (Fujian) Co., Ltd.
THE PEOPLE'S REPUBLIC OF CHINA: Silicon Metal⁸
A-570-806 | 6/1/08 - 5/31/09
Shanghai Jinneng International Trade Co., Ltd.
Datong Jinneng Industrial Silicon Co., Inc.
Jiangxi Gangyuan Silicon Industry Company, Ltd.
THE PEOPLE'S REPUBLIC OF CHINA: Tapered Roller Bearings and Parts Thereof, Finished and Unfinished⁹
A-570-601 | 6/1/08 - 5/31/09
Hubei New Torch Science & Technology Co., Ltd.
Peer Bearing Company - Changshan
Countervailing Duty Proceeding
None.
Suspension Agreements
None.
Deferral of Initiation of Administrative Review
GERMANY: Ball Bearings and Parts Thereof
A-428-801 | 5/1/08 - 4/30/09
Gebrueder Reinfurt GmbH & Co., KG (“GRW”)¹⁰
³ Company inadvertently omitted from intiation notice published on June 24, 2009 (74 FR 30052).
⁴ If one of the above-named companies does not qualify for a separate rate, all other exporters of Certain Polyester Staple Fiber from the People's Republic of China ("PRC") who have not qualified for a separate rate are deemed to be covered by this review as part of the single PRC entity of which the named exporters are a part.
⁵ If one of the above-named companies do not qualify for a separate rate, all other exporters of Chlorinated Isocyanurates from the PRC who have not qualified for a separate rate are deemed to be covered by this review as part of the single PRC entity of which the named exporters are a part.
⁶ If one of the above-named companies do not qualify for a separate rate, all other exporters of Folding Metal Tables and Chairs from the PRC who have not qualified for a separate rate are deemed to be covered by this review as part of the single PRC entity of which the named exporters are a part.
⁷ The Department deferred the 06/01/2007-05/31/2008 administrative review for the Feili group of companies for one year on 07/30/2008 (73 FR 44220). The Department is now initiating this review one year later along with the 06/01/2008-05/31/2009 administrative review.
⁸ If one of the above-named companies does not qualify for a separate rate, all other exporters of Silicon Metal from the PRC who have not qualified for a separate rate are deemed to be covered by this review as part of the single PRC entity of which the named exporters are a part.
⁹ If one of the above-named companies do not qualify for a separate rate, all other exporters of Tapered Roller Bearings and Part Thereof, Finished and Unfinished from the PRC who have not qualified for a separate rate are deemed to be covered by this review as part of the single PRC entity of which the named exporters are a part.
¹⁰ In the initiation notice that published on 06/24/2009 (74 FR 30052), we inadvertently overlooked GRW's request for deferral of initiation for the 2008-2009 administrative review. We hereby correct this oversight and are deferring the initiation of this review, pursuant to 19 CFR 351.213(c).

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v.United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

These initiations and this notice are in accordance with section 751(a) of the Tariff Act of 1930, as amended (19 U.S.C. 1675(a)), and 19 CFR 351.221(c)(1)(i).

Dated: July 23, 2009.
John M. Andersen,
Acting Deputy Assistant Secretary for Antidumping and Countervailing Duty Operations.

[FR Doc. E9-18093 Filed 7-28-09; 8:45 am]

BILLING CODE 3510-DS-S